DEPARTMENT OF HEALTH AND HUMAN SERVICES

[Document Identifier: OS-0990-New]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before October 13, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Evaluation of the Extension of the Certified Community Behavioral Health Clinic (CCBHC) Demonstration Program.

Type of Collection: New.

OMB No.: 0990-NEW—Office of the Assistant Secretary for Planning and Evaluation.

Abstract: The Office of the Assistant Secretary for Planning and Evaluation (ASPE) at the U.S. Department of Health and Human Services (HHS) is requesting Office of Management and Budget (OMB) approval for new data collection activities to support its evaluation of the extension of the Certified Community Behavioral Health Clinic (CCBHC) demonstration program.

Section 223 of the Protecting Access to Medicare Act (Pub. L. 113-93; PAMA) authorized the CCBHC demonstration to allow states to test a new strategy for delivering and reimbursing a comprehensive array of services provided in community behavioral health clinics. The demonstration aims to improve the availability, quality, and outcomes of outpatient services provided in these clinics by establishing a standard definition for CCBHCs and develops a new Medicaid prospective payment system (PPS) in each state that accounts for the total cost of providing nine types of services to all people who seek care. The PPS in each state is designed to provide CCBHCs with the financial support and stability necessary to deliver these required services. The demonstration also aims to incentivize quality through quality bonus payments to clinics and requires CCBHCs to report quality measures and costs.

Need and Proposed Use of the Information: PAMA mandates that HHS submit reports to Congress about the Section 223 demonstration that assess (1) access to community-based mental health services under Medicaid in the area or areas of a state targeted by a demonstration program as compared to other areas of the state, (2) the quality and scope of services provided by certified community behavioral health clinics as compared to community-based mental health services provided in states not participating in a demonstration program and in areas of a demonstration state that are not participating in the demonstration, and (3) the impact of the demonstration on the federal and state costs of a full range of mental health services (including inpatient, emergency, and ambulatory services). The ability of ASPE to provide this information to Congress requires a rigorously designed and independent evaluation of the CCBHC demonstration. The information collected under this submission will help ASPE address research questions for the evaluation and inform required reports to Congress. ASPE is requesting approval of this information collection for a three-year period. Information will be collected from individuals (CCBHC clients), businesses (CCBHC staff) and from state governments.

The total annual burden hours estimated for this information collection request are summarized in the table below.

Estimated Annualized Burden Table
Type of respondent | Number of respondents | Number responses per respondent | Average burden per response (in hours) | Total burden hours
State official interviews | 27 | 1 | 1 | 27
CCBHC leadership interviews | 10 | 1 | 1 | 10
CCBHC client focus groups | 14 | 1 | 1 | 14
CCBHC survey | 50 | 1 | 3 | 150
Total | 101 |  |  | 201

Sherrette A. Funn,
Paperwork Reduction Act Reports Clearance Officer, Office of the Secretary.

[FR Doc. 2022-19757 Filed 9-12-22; 8:45 am]

BILLING CODE 4150-05-P